DEPARTMENT OF HOUSING AND URBAN DEVELOPMENT

[Docket No. FR-7076-N-10]

60-Day Notice of Proposed Information Collection: Public Housing Inventory Removals Application, General Depository Agreement, and Notification of Public Housing Closeout or Future Development, OMB No. 2577-0075

AGENCY: Office of Public and Indian Housing (PIH), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment. Information collections from PHAs assure compliance with all Federal program requirements.

DATES: Comments Due Date: June 16, 2023.

ADDRESSES: Interested persons are invited to submit comments regarding this proposal.

Written comments and recommendations for the proposed information collection can be sent within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000; telephone 202-402-3400 (this is not a toll-free number) or email at PaperworkReductionActOffice@hud.gov for a copy of the proposed forms or other available information.

FOR FURTHER INFORMATION CONTACT: Leea J. Thornton, Office of Policy, Programs and Legislative Initiatives, PIH, Department of Housing and Urban Development, 451 7th Street SW, Room 3178, Washington, DC 20410; telephone 202-402-6455. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Thornton.

SUPPLEMENTARY INFORMATION: This notice informs the public that HUD is seeking approval from OMB for the information collection described in Section A.

A. Overview of Information Collection

Title of Information Collection: Public Housing Inventory Removal Application, General Depository Agreement, and Notification of Future Public Housing Development

OMB Approval Number: 2577-0075.

Type of Request: Revision of a currently approved collection

Form Number: HUD-51999; HUD 52860, HUD 52860-A, HUD 52860-B, HUD 52860-C; HUD 52860-D; HUD 52860-E, and HUD 52860-F, HUD-52860-G, and HUD-5837.

Description of the need for the information and proposed use: This collection covers the paperwork and HUD 52860 form requirements that PHAs must use when they request HUD approval to remove public housing real property (including units) from their public housing program through section 18 (demolition/disposition), section 22 (voluntary conversion), section 33 (required conversion) and section 32 (homeownership conveyance) of 1937 Act, as well as through settlement agreements in lieu of court proceedings for proposed eminent domain takings of public housing property and retention requirements under 2 CFR 200.311. Note that HUD approval of a removal action does not automatically or necessarily result in actual removal; rather, the PHA must complete the actual removal and comply with the applicable HUD reporting requirements to document the actual removal.

This collection covers the paperwork and HUD-51999 (General Depository Agreement) (GDA) form that PHAs must use when they receive restricted funds and program income, by requiring such funds to be deposited into interest-bearing accounts at financial institutions whose deposits or accounts are insured by the Federal Deposit Insurance Corporation (FDIC) or the National Credit Union Share Insurance Fund (NCUSIF).

This collection covers the paperwork and HUD-5837 (Notification of Public Housing Closeout or Future Development) form that PHAs must provide when they are submitting applications that remove all their public housing units about their plans for potential new public housing development or closeout of their public housing program. The HUD-5837 is used by HUD to monitor the federal public housing inventory and PHA's ongoing Annual Contributions Contract (ACC) with HUD after the PHA has zero public housing units in its inventory.

The revision of this collection does two things.

First, it removes the following three forms that from this collection:

• Annual Contributions Contract (ACC) (HUD-53012).

• Declaration of Trust/Declaration of Restrictive Covenants (DOT/DORC) (HUD-52190). This form is included in OMB Collection 2577-0275.

• Capital Fund Program (CFP) Amendment to the Annual Contributions Contract (ACC) Office of Public and Indian Housing (HUD-52840-A). This form is being included in its own collection.

Second, it makes formatting, instructional and other changes to the remaining forms to provide clearer direction and to ensure PHAs are fully complying with all applicable statutory and regulatory requirements.

The name of this collection is being changed to reflect the removal of the ACC form and to reference the GDA and Notification of Public Housing Closeout or Future Development form. The previous name of the collection was Public Housing Annual Contributions Contract and Inventory Removal Application.

Respondents: Public housing agencies.

| HUD-form | Total responses | Burden hours per response | Total hours | Cost per hour | ($) Total cost
1 | Submit Notification of Future Development via HUD-5837 | 19 | 2 | 38 | $44.56 | $1,693.28
2 | Submit General Depository Agreement (GDA) via form HUD 51999 | 2,770 | 1 | 2,770 | 44.56 | 123,431.20
3 | Removal of public housing property from ACC through demolition and/or disposition, including de minimis, via (section 18) via HUD form 52860 | 200 | 10 | 2,000 | 47.26 | 94,520
4 | Removal of public housing property from ACC through voluntary conversion (section 22) via HUD form 52860 | 12 | 10 | 120 | 47.26 | 5,671.20
5 | Removal of public housing property from ACC through required conversion (section 33) via HUD form 52860 | 0 | 10 | 0 | 47.26 | 0
6 | Removal of public housing property through homeownership (section 32) via HUD Form 52860 | 3 | 10 | 30 | 47.26 | 1,417.80
7 | Removal of public housing property from ACC through eminent domain HUD form 52860 | 1 | 10 | 10 | 47.26 | 470.26
8 | Removal of public housing property from ACC through retention actions under 2 CFR 200.311 via HUD form 52860 | 2 | 10 | 20 | 47.26 | 945.20
| Totals | 3,007 | 63 | 4,988 | 47.26 | 235,732.88

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. chapter 35.

Steven Durham,
Acting Chief, Office of Policy, Programs and Legislative Initiatives.

[FR Doc. 2023-07975 Filed 4-14-23; 8:45 am]

BILLING CODE P